ENVIRONMENTAL PROTECTION AGENCY

40 CFR Part 52

[EPA-R01-OAR-2013-0028; FRL-9908-52-Region 1]

Approval and Promulgation of Air Quality Implementation Plans; Massachusetts; Reasonably Available Control Technology for the 1997 8-Hour Ozone Standard

AGENCY: Environmental Protection Agency (EPA).

ACTION: Correcting amendments.

SUMMARY: The Environmental Protection Agency (EPA) published a final rule regarding reasonably available control technology requirements for Massachusetts in the Federal Register on September 9, 2013. An error in Table 52.1167 was identified and is corrected in this action.

DATES: This rule is effective on June 23, 2014.

FOR FURTHER INFORMATION CONTACT: Bob McConnell, Air Quality Planning Unit, U.S. Environmental Protection Agency, EPA New England Regional Office, 5 Post Office Square, Suite 100 (mail code: OEP05-2), Boston, MA, 02109-3912, telephone number (617) 918-1046, fax number (617) 918-0046, email mcconnell.robert@epa.gov.

SUPPLEMENTARY INFORMATION: In rule FR Doc. 2013-21618 published on September 9, 2013 (78 FR 54960), make the following correction. On page 54962, the sixth column of Table 52.1167 incorrectly contained the placeholder language “Insert next available paragraph number in sequence” in two locations. Rather than this language, table 52.1167 should have indicated the number “138” instead.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 1, 2014.
H. Curtis Spalding,
Regional Administrator, EPA New England.

Part 52 of chapter I, title 40 of the Code of Federal Regulations, is amended as follows:

PART 52—[AMENDED]

1. The authority citation for part 52 continues to read as follows:

Authority: 42 U.S.C. 7401 et seq.

2. In § 52.1167, Table 52.1167 is amended by revising the entries for “310 CMR 7.18(8) for Solvent Metal Degreasing for 6/1/10” and “310 CMR 7.24(6) for Dispensing of Motor Vehicle Fuel for 6/1/10” to read as follows:

§ 52.1167—EPA-approved Massachusetts State regulations.

* * * * *

Table 52.1167—EPA-Approved Rules and Regulations
[See Notes at end of table]
State citation | Title/subject | Date submitted by State | Date approved by EPA | Federal Register citation | 52.1120(c) | Comments/unapproved sections
* * * * * * *
310 CMR 7.18(8) | Solvent Metal Degreasing | 6/1/10 | 9/13/2013 | 78 FR 54960 | 138 |
* * * * * * *
310 CMR 7.24(6) | Dispensing of Motor Vehicle Fuel | 6/1/10 | 9/13/2013 | 78 FR 54960 | 138 |
* * * * * * *
Notes:
1. This table lists regulations adopted as of 1972. It does not depict regulatory requirements which may have been part of the Federal SIP before this date.
2. The regulations are effective statewide unless stated otherwise in comments or title section.

[FR Doc. 2014-11490 Filed 5-21-14; 8:45 am]

BILLING CODE 6560-50-P